DEPARTMENT OF TRANSPORTATION

Federal Highway Administration

Notice of Final Federal Agency Actions on Transportation Project in Washington State

AGENCY: Federal Highway Administration (FHWA), Department of Transportation (DOT).

ACTION: Notice of limitation on claims for judicial review of actions by FHWA.

SUMMARY: This notice announces actions taken by the FHWA that are final. The action relates to the need to remove wireless communications facilities serving AT&T, Sprint, T-Mobile, and Verizon from the Montlake 76 Service Station and Montlake Boulevard Market property and replace the service provided at a temporary site for the duration of SR 520, I-5 to Medina construction in the City of Seattle, King County, State of Washington.

DATES: A claim seeking judicial review of the Federal agency actions on the listed highway project will be barred unless the claim is filed on or before March 18, 2019. If the Federal law that authorizes judicial review of a claim provides a time period of less than 150 days for filing such claim, then that shorter time period still applies.

FOR FURTHER INFORMATION CONTACT: Jeff Horton, Area Engineer, Federal Highway Administration, 711 S Capitol Way, Suite 501, Olympia, WA 98501-1284, 360-753-9411, or jeff.horton@dot.gov; or Margaret Kucharski, Mega Projects Environmental Manager, Washington State Department of Transportation, 999 3rd Ave., Suite 2200, Seattle, WA 98104, 206-770-3500, or Margaret.Kucharski@wsdot.wa.gov.

SUPPLEMENTARY INFORMATION: On September 7, 2011, FHWA published a “Notice of Final Federal Agency Actions on Proposed Highway in Washington” in the Federal Register at 76 FR 55459 for the SR 520, I-5 to Medina: Bridge Replacement and HOV Project. Notice is hereby given that, subsequent to the earlier FHWA notice, FHWA has taken final agency actions within the meaning of 23 U.S.C. 139(l)(1) by issuing a NEPA re-evaluation for the SR 520 SR 520, I-5 to Medina: Bridge Replacement and HOV Project: Wireless Communications Facility Removal and Relocation (hereafter “re-evaluation”). The action(s) by FHWA and the laws under which such actions were taken, are described in the re-evaluation and the associated agency records. That information is available by contacting FHWA at the addresses provided above.

The project proposed to improve safety and mobility for people and goods across Lake Washington by replacing the SR 520 Portage Bay and Evergreen Point bridges and improve existing roadway between Interstate 5 (I-5) in Seattle and Evergreen Point Road in Medina spanning 5.2 miles. The Final Environmental Impact Statement (EIS) for the project was published in January 2011 and the Record of Decision (ROD) was issued in August 2011.

Since issuance of the FHWA ROD, the design and construction approach has been refined such that wireless communications facilities collocated with the Montlake 76 Service Station and Montlake Boulevard Market property would need to be removed to complete construction of the Montlake Phase. A new temporary wireless communications facility will be constructed along Lake Washington Boulevard East near East Miller Street and 26th Avenue East for the duration of SR 520 construction to replace the service provided by the removed facilities. The re-evaluation considering this refinement was issued on September 4, 2018. It identifies and documents potential effects associated with the refinement. This notice only applies to the re-evaluation.

Information about the re-evaluation and associated records are available from FHWA and WSDOT at the addresses provided above and can be found at: https://www.wsdot.wa.gov/Projects/SR520Bridge/Library/I5Medina.htm. This notice applies to all Federal agency decisions related to the re-evaluation as of the issuance date of this notice and all laws under which such actions were taken, including but not limited to:

1. General: National Environmental Policy Act (NEPA) [42 U.S.C. 4321-4347]; Federal-Aid Highway Act [23 U.S.C. 109].

2. Air: Clean Air Act, as amended [42 U.S.C. 7401-7671(q)].

3. Land: Section 6(f) of the Land and Water Conservation Fund Act of 1965 [16 U.S.C. 4601]; Section 4(f) of the Department of Transportation Act of 1966 [49 U.S.C. 303].

4. Wildlife: Endangered Species Act [16 U.S.C. 1531-1544]; Section 7 of the Endangered Species Act [16 U.S.C. 1536]; Anadromous Fish Conservation Act [16 U.S.C. 757(a-757(g)); Fish and Wildlife Coordination Act [16 U.S.C. 661-667(d)]; Magnuson-Stevens Fishery Conservation and Management Act of 1976, as amended [16 U.S.C. 1801 et seq.].

5. Historic and Cultural Resources: Section 106 of the National Historic Preservation Act of 1966, as amended [16 U.S.C. 470(f) et seq.]; Archaeological and Historic Preservation Act [16 U.S.C. 469-469(c)]; Native American Grave Protection and Repatriation Act (25 U.S.C. 3001-3013).

6. Wetlands and Water Resources: Section 7 of the Endangered Species Act [16 U.S.C. 1536]; Clean Water Act, (Section 319 [33 U.S.C. 329]); Safe Drinking Water Act [42 U.S.C. 300(f)-300(j)(6)].

7. Navigation: Rivers and Harbors Act of 1899 [33 U.S.C. 403]; General Bridge Act of 1946 [33 U.S.C. 9 and 11].

8. Executive Orders: E.O. 11990 Protection of Wetlands; E.O. 11988 Floodplain Management; E.O. 12898 Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

Authority: 23 U.S.C. 139(l)(1), as amended by Moving Ahead for Progress in the 21st Century Act, (PL 112-141, 126 Stat. 405).

Issued on: October 9, 2018.
Daniel Mathis,
FHWA Division Administrator, Olympia, WA.

[FR Doc. 2018-22503 Filed 10-18-18; 8:45 am]

BILLING CODE 4910-RY-P